DEPARTMENT OF HOMELAND SECURITY

Transportation Security Administration

49 CFR Parts 1520 and 1580

[Docket No. TSA-2006-26514; Amendment nos. 1520-6, 1580-1]

RIN 1652-AA51

Rail Transportation Security

AGENCY: Transportation Security Administration, DHS.

ACTION: Final rule.

SUMMARY: The Transportation Security Administration (TSA) extends the December 26, 2008 effective date of one section of the final rule entitled “Rail Transportation Security,” published in the Federal Register on November 26, 2008, 73 FR 72131, until April 1, 2009. This extension of the effective date is to afford affected freight railroad carriers, rail hazardous materials shippers, and rail hazardous materials receivers additional time to conduct training and implement procedures to come into compliance with the chain of custody and control requirements of the rule.

DATES: The effective date of 49 CFR 1580.107 of the final rule published in the Federal Register on November 26, 2008, at 73 FR 72131 is delayed until April 1, 2009. The effective date of the amendment to 49 CFR part 1520 and the effective date of all other sections of 49 CFR part 1580 remains December 26, 2008.

FOR FURTHER INFORMATION CONTACT: For questions related to freight rail security: Scott Gorton, Transportation Sector Network Management, Freight Rail Security, TSA-28, Transportation Security Administration, 601 South 12th Street, Arlington, VA 20598-6028; telephone (571) 227-1251; facsimile (571) 227-1923; e-mail freightrailsecurity@dhs.gov.

For questions related to passenger rail security: Morvarid Zolghadr, Mass Transit and Passenger Rail Security, TSA-28, Transportation Security Administration, 601 South 12th Street, Arlington, VA 20598-6028; telephone (571) 227-2957; e-mail passengerrailcomments@dhs.gov.

For questions related to SSI: Andrew E. Colsky, Office of the Special Counselor, SSI Office, TSA-31, Transportation Security Administration, 601 South 12th Street, Arlington, VA 20598-6031; telephone (571) 227-3513; facsimile (571) 227-2945; e-mail SSI@dhs.gov.

SUPPLEMENTARY INFORMATION: On November 26, 2008, TSA issued its Rail Transportation Security rule. 73 FR 72130. The effective date to comply with all provisions of the final rule was December 26, 2008.

The final rule on rail transportation security included a section to require a secure chain of physical custody for rail cars containing one or more rail security-sensitive materials. See 49 CFR 1580.107. On December 11, 2008, the Association of American Railroads and its member freight railroads requested that TSA delay the effective date of this provision. They presented information indicating that the initial 30-day period for compliance did not afford sufficient time for railroad carriers to implement procedures and train their workforce to meet the new regulatory requirement.

TSA recognizes that the affected regulated parties would have significant difficulty in complying with the chain of custody and control requirements in the time specified, and has decided to extend the effective date for compliance with 49 CFR 1580.107 to April 1, 2009.

Issued in Arlington, Virginia, on December 15, 2008.
John Sammon,
Assistant Administrator.

[FR Doc. E8-30156 Filed 12-18-08; 8:45 am]

BILLING CODE 9110-05-P